DEPARTMENT OF ENERGY

Federal Energy Regulatory Commission

Notice of Application For Transfer of Licenses and Soliciting Comments, Motions To Intervene, and Protests

Ada County, Idaho

Aquenergy Systems, Inc.

Barnet Hydro Company

Big Wood Canal Company

BP Hydro Associates

Cherokee Falls Hydroelectric Project, LLC

Consolidated Hydro New York, Inc.

Consolidated Hydro New Hampshire, Inc.

Consolidated Hydro Southeast, Inc.

Dietrich Drop Hydro, LLC

Essex Company

Fowler Hydro, LLC

Fulcrum, Inc.

Goodyear Lake Hydro, LLC

Hydro Development Group Inc.

Hydro Development Group Acquisition, LLC

Kelley's Falls, LLC

Lawrence Hydroelectric Associates

Lower Saranac Corporation

Lower Saranac Hydro, LLC

Lower Saranac Hydro Partners, L.P.

Missisquoi Associates

Newbury Hydro Company

Pelzer Hydro Company, Inc.

Pyrites Associates

Pyrites Hydro, LLC

Rock Creek L.P.

Salmon Falls Hydro, LLC

Sweetwater Hydroelectric, Inc.

Walden Hydro, LLC

Project Nos. 2416-027, 2428-006, 2788-016, 2800-044, 2880-012, 2883-006, 3025-025, 3189-047, 3511-021, 4114-056, 4428-007, 4881-025, 5261-020, 5702-016, 6058-020, 6059-019, 6115-014, 7153-016, 7186-048, 8909-025, 10253-029, 10254-024, 10898-014, and 11163-046

On January 26, 2015, a joint application for transfer of licenses was filed to include the following projects:

Conversions of Licensee to a Limited Liability Company
Project(s) | Transferor (existing licensee or co-licensee) | Transferee (new licensee or co-licensee) | Action
Cherokee Falls P-2880; Fries P-2883; Piedmont P-2428; Ware Shoals P-2416 | Aquenergy Systems, Inc | Aquenergy Systems, LLC | Conversion to limited liability company.
Barnet P-5702 | Barnet Hydro Company | Barnet Hydro Company, LLC | Conversion to limited liability company.
Kelley's Falls P-3025; South Berwick (Salmon Falls) P-11163 | Consolidated Hydro New Hampshire, Inc | Consolidated Hydro New Hampshire, LLC | Conversion to limited liability company.
Walden P-4428; Victory Mills P-7153 | Consolidated Hydro New York, Inc | Consolidated Hydro New York, LLC | Conversion to limited liability company.
Lower Pelzer P-10253; Upper Pelzer P-10254 | Consolidated Hydro Southeast, Inc | Consolidated Hydro Southeast, LLC | Conversion to limited liability company.
Lawrence P-2800 | Essex Company | Essex Company, LLC | Conversion to limited liability company.
Barber Dam P-4881 | Fulcrum, Inc | Fulcrum, LLC | Conversion to limited liability company.
Lower Saranac P-4114 | Lower Saranac Hydro Partners, L.P | Lower Saranac Hydro Partners, LLC | Conversion to limited liability company.
Sheldon Springs P-7186 | Missisquoi Associates | Missisquoi, LLC | Conversion to limited liability company.
Newbury P-5261 | Newbury Hydro Company | Newbury Hydro Company, LLC | Conversion to limited liability company.
Lower Pelzer P-10253; Upper Pelzer P-10254 | Pelzer Hydro Company, Inc | Pelzer Hydro Company, LLC | Conversion to limited liability company.
Rock Creek P-3189 | Rock Creek L.P | Rock Creek Hydro, LLC | Conversion to limited liability company.
Sweetwater P-10898 | Sweetwater Hydroelectric, Inc | Sweetwater Hydroelectric, LLC | Conversion to limited liability company.

Merger of Transferor Into Transferee With Transferee Surviving
Project(s) | Transferor (existing licensee or co-licensee) | Transferee (new licensee or co-licensee) | Action
Fowler #7 P-6059; Colliersville P-2788; Hailesboro #4; P-6058 | Hydro Development Group Inc | Hydro Development Group Acquisition, LLC | Merger of Transferor into Transferee with Transferee surviving.
Lawrence P-2800 | Lawrence Hydroelectric Associates | Essex Company, LLC | Merger of Transferor into Transferee with Transferee surviving.
Groveville P-3511 | Lower Saranac Corporation | Lower Saranac Hydro, LLC | Merger of Transferor into Transferee with Transferee surviving.

Transfer of Project Assets to a Newly Formed Limited Liability Company
Project(s) | Transferor (existing licensee or co-licensee) | Transferee (new licensee or co-licensee) | Action
Cherokee Falls P-2880 | Aquenergy Systems, LLC | Cherokee Falls Hydroelectric Project, LLC | Transfer of Project assets to Transferee.
Dietrich Drop P-8909 | BP Hydro Associates | Dietrich Drop Hydro, LLC | Transfer of Project assets to Transferee.
Kelley's Falls P-3025 | Consolidated Hydro New Hampshire, LLC | Kelley's Falls, LLC | Transfer of Project assets to Transferee.
South Berwick (Salmon Falls) P-11163 | Consolidated Hydro New Hampshire, LLC | Salmon Falls Hydro, LLC | Transfer of Project assets to Transferee.
Walden P-4428 | Consolidated Hydro New York, LLC | Walden Hydro, LLC | Transfer of Project assets to Transferee.
Fowler #7 P-6059 | Hydro Development Group Acquisition, LLC | Fowler Hydro, LLC | Transfer of Project assets to Transferee.
Pyrites P-6115 | Pyrites Associates | Pyrites Hydro, LLC | Transfer of Project assets to Transferee.
Colliersville P-2788 | Hydro Development Group Acquisition, LLC | Goodyear Lake Hydro, LLC | Transfer of Project assets to Transferee.

Applicants seek Commission approval to transfer the licenses for the above projects by conversion of licensee to a limited liability company, merger of transferor into transferee with transferee surviving, or transfer of project assets to a newly formed limited liability company.

Applicants' Contact: For Applicants other than Ada County, ID and Big Wood Canal Company: Mr. Stephen Champagne, Executive Vice President and General Counsel, Enel Green Power North America, Inc., One Tech Drive, Suite 220, Andover, MA 01810, Phone: 978-296-6812, Email: steve.champagne@enel.com. Mr. William Conway, Jr., Skadden, Arps, Slate, Meagher & Flom LLP, 1440 New York Avenue NW., Washington, DC 20005, Phone 202-371-7135, Email: William.conway@skadden.com. For Ada County, ID: Board of Ada County Commissioners, c/o Lorna K. Jorgensen, Deputy Processing Attorney, Ada County Prosecuting Attorney's Office, Third Floor, Ada County Courthouse, 200 W. Front Street, Boise, ID 83702, Phone: 208-287-7722, Email: ljorgensen@adaweb.net. For Big Wood Canal Company: Lynn Harmon, Big Wood Canal Company, 409 N Apple, Shoshone, ID 83352, Email: lynnharmon@cableone.net.

FERC Contact: Patricia W. Gillis (202) 502-8735, patricia.gillis@ferc.gov.

Deadline for filing comments and motions to intervene: 30 days from the issuance date of this notice by the Commission. Comments and motions to intervene may be filed electronically via the Internet. See 18 CFR 385.2001(a)(1) and the instructions on the Commission's Web site under http://www.ferc.gov/docs-filing/efiling.asp. Commenters can submit brief comments up to 6,000 characters, without prior registration, using the eComment system at http://www.ferc.gov/docs-filing/ecomment.asp. You must include your name and contact information at the end of your comments. If unable to be filed electronically, documents may be paper-filed. To paper-file, an original plus seven copies should be mailed to: Kimberly D. Bose, Secretary, Federal Energy Regulatory Commission, 888 First Street NE., Washington, DC 20426. More information about this project can be viewed or printed on the eLibrary link of Commission's Web site at http://www.ferc.gov/docs-filing/elibrary.asp. Enter the docket number(s) (P-2416-027, 2428-006, 2788-016, 2800-044, 2880-012, 2883-006, 3025-025, 3189-047, 3511-021, 4114-056, 4428-007, 4881-025, 5261-020, 5702-016, 6058-020, 6059-019, 6115-014, 7153-016, 7186-048, 8909-025, 10253-029, 10254-024, 10898-014, and 11163-046) in the docket number field to access the document. For assistance, call toll-free 1-866-208-3372.

Dated: February 13, 2015.
Nathaniel J. Davis, Sr.,
Deputy Secretary.

[FR Doc. 2015-03646 Filed 2-23-15; 8:45 am]

BILLING CODE 6717-01-P